DEPARTMENT OF COMMERCE

International Trade Administration

[A-122-838, C-122-839]

Certain Softwood Lumber From Canada: Notice of Initiation of Antidumping Duty New Shipper Review for the Period May 1, 2003, Through April 30, 2004, and Notice of Initiation of Countervailing Duty New Shipper Review for the Period January 1, 2003, Through December 31, 2003

AGENCY: Import Administration, International Trade Administration, Department of Commerce.

ACTION: Notice of Initiation of Antidumping and Countervailing Duty New Shipper Reviews in Certain Softwood Lumber from Canada.

EFFECTIVE DATE: July 8, 2004.

SUMMARY: The Department of Commerce (the Department) has received requests to conduct new shipper reviews of the antidumping (AD) and countervailing duty (CVD) orders on certain softwood lumber from Canada. In accordance with section 751(a)(2)(B) of the Tariff Act of 1930, as amended (the Act), and 19 CFR 351.214(d) (2002), we are initiating AD and CVD new shipper reviews for Seed Timber Co. Ltd (Seed Timber).

FOR FURTHER INFORMATION CONTACT: James Kemp or Constance Handley (AD review) at (202) 482-5346 and (202) 482-0631, respectively; Tipten Troidl or Eric B. Greynolds (CVD review) at (202) 482-1767 and (202) 482-6071, respectively; Group I, AD/CVD Enforcement, Import Administration, International Trade Administration, U.S. Department of Commerce, 14th Street and Constitution Avenue, NW., Washington, DC 20230.

Background

On May 28, 2004, the Department received a timely request from Seed Timber, in accordance with 19 CFR 351.214(d)), for a new shipper review of the AD and CVD orders on certain softwood lumber from Canada, which have a May anniversary month.¹

¹ See Certain Softwood Lumber Products from Canada, 67 FR 36068, 36070 (May 22, 2002).

As required by 19 CFR 351.214(b)(2)(I) and (iii)(A), Seed Timber certified that it did not export certain softwood lumber to the United States during the period of investigation (POI), and that it has never been affiliated with any exporter or producer which exported certain softwood lumber during the POI.² Pursuant to 19 CFR 351.214(b)(2)(iv), the company submitted documentation establishing the date on which it first shipped the subject merchandise to the United States, the date of entry of that first shipment, the volume of that and subsequent shipments, the date of the first sale to an unaffiliated customer in the United States, and that it has informed the Governments of Canada and British Columbia that they will be required to provide a full response to the Department's questionnaire.³

² See submission from Seed Timber Co. Ltd. to the Department regarding Request for New Shipper Review, case A-122-838, dated May 25, 2004.

³ See submission from Seed Timber Co. Ltd. to the Department regarding Request for New Shipper Review, case C-122-839, dated May 25, 2004.

Initiation of Reviews

In accordance with section 751(a)(2)(B) of the Act and 19 CFR 351.214(b), and based on information on the record, we are initiating AD and CVD new shipper reviews for Seed Timber. We intend to issue the preliminary results of these new shipper reviews not later than 180 days after initiation of these reviews. We intend to issue final results of these reviews no later than 90 days after the date on which the preliminary results are issued. See 19 CFR 351.214(I).

New shipper review proceeding | Period to be reviewed
Seed Timber Co. Ltd | 05/01/03-04/30/04 (AD).
| 01/01/03-12/31/03 (CVD).

We will instruct U.S. Customs and Border Protection to allow, at the option of the importer, the posting, until the completion of the reviews, of a bond or security in lieu of a cash deposit for each entry of the subject merchandise from the above-listed company in accordance with 19 CFR 351.214(e). Because Seed Timber certified that it both produces and exports the subject merchandise, the sale of which is the basis for these new shipper review requests, we will permit the bonding privilege only with respect to entries of subject merchandise for which Seed Timber is both the producer and exporter.

Interested parties that need access to proprietary information in these new shipper reviews should submit applications for disclosure under administrative protective orders in accordance with 19 CFR 351.305 and 351.306.

This initiation and notice are in accordance with section 751(a) of the Act (19 U.S.C. 1675(a)) and 19 CFR 351.214(d).

Dated: June 30, 2004.
Jeffrey A. May,
Deputy Assistant Secretary for Import Administration, Group 1.

[FR Doc. 04-15540 Filed 7-7-04; 8:45 am]

BILLING CODE 3510-DS-P